DEPARTMENT OF TRANSPORTATION

Federal Aviation Administration

RTCA Special Committee 194: Air Traffic Management (ATM) Data Link Implementation

AGENCY: Federal Aviation Administration (FAA), DOT.

ACTION: Notice of RTCA Special Committee 194 meeting.

SUMMARY: The FAA is issuing this notice to advise the public of a meeting of RTCA Special Committee 194: Air Traffic Management (ATM) Data Link Implementation.

DATES: The meeting will be held March 4-6, 2002, starting at 1 pm on March 4 and at 9 am on March 5 and 6.

ADDRESSES: The meeting will be held at RTCA, Inc., 1828 L Street, NW., Suite 805, Washington, DC 20036.

FOR FURTHER INFORMATION CONTACT: RTCA Secretariat, 1828 L Street, NW., Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 194 meeting. The agenda will include:

• March 4:

• Opening Plenary Session (Welcome and Introductory Remarks, Review Agenda, Review/Approve Minutes of Previous Meeting, Working Group Reports)

• Review and Update revised Controller-Pilot Data Link Communication (CPDLC) Program

• Determine need for proposed changes, if any, to SC-194 Terms of Reference

• Determine near and mid-term SC-194 activities

• Other Business

• March 5:

• Working Group 1, Data Link Ops Concepts and Implementation Plan

• Working Group 2, Flight Operations and Air Traffic Management (ATM) Integration

• Working Group 3, Human Factors

• Working Group 4, Service Provider Interface

• March 6:

• Working Group 1, Data Link Ops Concept & Implementation Plan

• Working Group 2, Flight Operations and ATM Integration

• Working Group 3, Human Factors

• Disposition of Final Review and Comments (FRAC) on DO-XXX Plans and Principles for the Implementation of Aeronautical Data Link System (ADLS) Build II (Spiral A)

• Closing Plenary Session (Review Agenda, Working Group Reports, Other Business, Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 14, 2002.
Janice L. Peters,
FAA Special Assistant, RTCA Advisory Committee.

[FR Doc. 02-4200 Filed 2-20-02; 8:45 am]

BILLING CODE 4910-13-M